LEGAL SERVICES CORPORATION

Notice to LSC Grantees of Application Process For Subgranting Special Grant Funds

AGENCY: Legal Services Corporation.

ACTION: Notice of application dates and format for applications to make subgrants of LSC Special Grant Funds, including Technology Initiative Grant, Pro Bono Innovation Fund, and Disaster Relief Grant funds.

SUMMARY: The Legal Services Corporation (LSC) is the national organization charged with administering Federal funds provided for civil legal services to low-income people. LSC is announcing the submission dates for applications to make subgrants of its Special Grant funds. LSC is also providing information about where applicants may locate subgrant application forms and directions for providing the information required in the application.

DATES: See SUPPLEMENTARY INFORMATION section for application dates.

ADDRESSES: Legal Services Corporation—Office of Compliance and Enforcement, 3333 K Street NW, Third Floor, Washington, DC 20007-3522.

FOR FURTHER INFORMATION CONTACT: Megan Lacchini, Office of Compliance and Enforcement at lacchinim@lsc.gov or (202) 295-1506, or visit the LSC website at http://www.lsc.gov/grants-grantee-resources/grantee-guidance/how-apply-subgrant.

SUPPLEMENTARY INFORMATION: Under 45 CFR part 1627, LSC must publish, on an annual basis, “notice of the requirements concerning the format and contents of the application annually in the Federal Register and on LSC's website.” 45 CFR 1627.4(b). This Notice and the publication of the Subgrant Application Forms on LSC's website satisfy § 1627.4(b)'s notice requirement for LSC Special Grant programs. Only current or prospective recipients of LSC Special Grants may apply for approval to subgrant these funds.

An applicant must submit an application to make a subgrant of LSC Special Grant funds at least 45 days in advance of the subgrant's proposed effective date. 45 CFR 1627.4(b)(2).

Applicants must submit applications at https://lscgrants.lsc.gov. Applicants may access the application under the “Subgrants” heading on their “LSC Grants” home page. Applicants may initiate an application by selecting “Initiate Subgrant Application.” Applicants must then provide the information requested in the LSC Grants data fields, located in the Subrecipient Profile, Subgrant Summary, and Subrecipient Budget screens, and upload the following documents:

• A draft Subgrant Agreement with the required terms provided in the Special Grant Subgrant Agreement Template (“Agreement Template”); and

• Inquiries for Applications to Subgrant LSC Special Grant Funds (“Inquiries”).

Applicants seeking to subgrant to an organization that is not a current LSC grantee must also upload:

• The subrecipient's accounting manual (or letter indicating that the subrecipient does not have one and why);

• The subrecipient's most recent audited financial statement (or letter indicating that the subrecipient does not have one and why);

• The subrecipient's current cost allocation policy (or letter indicating that the subrecipient does not have one and why);

• The subrecipient's current fidelity bond policy (or letter indicating that the subrecipient does not have one and why);

• The subrecipient's conflict of interest policy (or letter indicating that the subrecipient does not have one and why); and

• The subrecipient's whistleblower policy (or letter indicating that the subrecipient does not have one and why).

The Agreement Template and Inquiries are available on LSC's website at http://www.lsc.gov/grants-grantee-resources/grantee-guidance/how-apply-subgrant. LSC encourages applicants to use LSC's Agreement Template as a model subgrant agreement. If the applicant does not, the proposed agreement must include, at a minimum, the substance of the provisions of the Template.

Once submitted, LSC will evaluate the application and provide applicants with instructions on any needed modifications to the information, documents, or Draft Agreement provided with the application. The applicant must then upload a final and signed subgrant agreement through LSC Grants. This can be done by selecting “Upload Signed Agreement” to the right of the application “Status” under the “Subgrant” heading on an applicant's LSC Grants home page.

As required by 45 CFR 1627.4(b)(3), LSC will inform applicants of its decision to disapprove, approve, or request modifications to the subgrant no later than the subgrant's proposed effective date.

Dated: August 12, 2019.
Stefanie Davis,
Assistant General Counsel.

[FR Doc. 2019-17534 Filed 8-14-19; 8:45 am]

BILLING CODE 7050-01-P